DEPARTMENT OF TRANSPORTATION

Federal Aviation Administration

14 CFR Part 91

[Docket No. FAA-2006-24981; Amdt. Nos. 61-138A, 91-344A, and 135-134A]

RIN 2120-AK63

MU-2B Series Airplane Training Requirements Update; Correction

AGENCY: Federal Aviation Administration (FAA), DOT.

ACTION: Final rule; correcting amendment.

SUMMARY: The FAA is correcting a final rule published on September 7, 2016. In that rule, the FAA amended its regulations to relocate and update the content of SFAR No. 108 to the newly created subpart N of part 91 in order to improve the safety of operating the Mitsubishi Heavy Industries (MHI) MU-2B series airplane. This document corrects two errors in the codified text of the final rule.

DATES: Effective May 9, 2017.

FOR FURTHER INFORMATION CONTACT: For technical questions concerning this action, contact Joseph Hemler, Commercial Operations Branch, Flight Standards Service, AFS-820, Federal Aviation Administration, 55 M Street SE., 8th floor, Washington, DC 20003-3522; telephone (202) 267-1100; email joseph.k.hemler-jr@faa.gov.

SUPPLEMENTARY INFORMATION:

Background

On September 7, 2016, the FAA published a final rule entitled, “MU-2B Series Airplane Training Requirements Update” (81 FR 61583). In that final rule, the FAA amended its regulations to relocate and update the content of SFAR No. 108 to the newly created subpart N of part 91 in order to improve the safety of operating the MHI MU-2B series airplane. The FAA relocated the training program from the SFAR No. 108 appendices to advisory material in order to allow the FAA to update policy while ensuring significant training adjustments still go through notice-and-comment rulemaking. The FAA also corrected and updated several inaccurate maneuver profiles to reflect current FAA training philosophy and added new FAA procedures not previously part of the MU-2B training under SFAR No. 108. The final rule required all MU-2B training programs to meet the requirements of subpart N of part 91 and to be approved by the FAA to ensure safety is maintained.

After the final rule was published, the FAA discovered an error in the regulatory text of the rule. The FAA was also notified that the publisher of the MHI MU-2B Checklists, which were incorporated by reference in the final rule, changed on March 31, 2017. Because the publisher's contact information is codified in § 91.1721(b), the regulatory text of paragraph (b) was incorrect as of March 31, 2017. These errors, and the corresponding corrections, are as follows:

Corrections

1. Takeoff and Landing Currency Requirements in § 91.1715(a)

Section 91.1715(a) currently reads, in part, “takeoff landing currency requirements.” The FAA is adding the word “and” to correct an inadvertent omission in the regulation.

2. Publisher's Contact Information in § 91.1721(b)

The MHI MU-2B Cockpit Checklists are incorporated by reference in § 91.1721. Section 91.1721(b) contains the contact information of the company who publishes these checklists. When the final rule was published, Turbine Aircraft Services, Inc. (TAS) was contracted by Mitsubishi Heavy Industries America, Inc. (MHIA) to print and distribute the MU-2B Cockpit Checklists. Therefore, § 91.1721(b) currently contains TAS's contact information. The FAA was notified, however, that beginning on March 31, 2017, MHIA will be responsible for printing and distributing the MU-2B Cockpit Checklists. This correction document updates the contact information in § 91.1721(b) to reflect the new publisher.

Because these amendments are technical in nature and result in no substantive changes, the FAA finds that the notice and public procedures under 5 U.S.C. 553(b) are unnecessary. For the same reason, the FAA finds good cause exists under 5 U.S.C. 553(d)(3) to make the amendments effective in less than 30 days.

List of Subjects in 14 CFR Part 91

Aircraft, Airmen, Airports, Aviation safety, Freight, Incorporation by reference, Reporting and recordkeeping requirements.

The Amendment

In consideration of the foregoing, the Federal Aviation Administration corrects chapter I of title 14, Code of Federal Regulations as follows:

PART 91—GENERAL OPERATING AND FLIGHT RULES

1. The authority citation for part 91 continues to read as follows:

Authority: 49 U.S.C. 106(f), 106(g), 1155, 40101, 40103, 40105, 40113, 40120, 44101, 44111, 44701, 44704, 44709, 44711, 44712, 44715, 44716, 44717, 44722, 46306, 46315, 46316, 46504, 46506-46507, 47122, 47508, 47528-47531, 47534, articles 12 and 29 of the Convention on International Civil Aviation (61 Stat. 1180), (126 Stat. 11).

2. Revise paragraph (a) of § 91.1715 to read as follows:

§ 91.1715 Currency requirements and flight review.

(a) The takeoff and landing currency requirements of § 61.57 of this chapter must be maintained in the Mitsubishi MU-2B series airplane. Takeoff and landings in other multiengine airplanes do not meet the takeoff and landing currency requirements for the Mitsubishi MU-2B series plane. Takeoff and landings in either the short-body or long-body Mitsubishi MU-2B model airplane may be credited toward takeoff and landing currency for both Mitsubishi MU-2B model groups.

* * * * *

3. In § 91.1721, revise the introductory text of paragraph (b) to read as follows:

§ 91.1721 Incorporation by reference.

* * * * *

(b) Mitsubishi Heavy Industries America, Inc., 4951 Airport Parkway, Suite 530, Addison, TX 75001.

* * * * *

Issued under authority provided by (consult AGC) 49 U.S.C. 106(f), 44701(a), and 44703 in Washington, DC, on May 2, 2017.
Lirio Liu,
Director, Office of Rulemaking.

[FR Doc. 2017-09316 Filed 5-8-17; 8:45 am]

BILLING CODE 4910-13-P